COMMITTEE FOR PURCHASE FROM PEOPLE WHO ARE BLIND OR SEVERELY DISABLED

Procurement List; Additions and Deletions

AGENCY: Committee for Purchase From People Who Are Blind or Severely Disabled.

ACTION: Deletions from the Procurement List.

SUMMARY: This action deletes product(s) from the Procurement List that were furnished by nonprofit agencies employing persons who are blind or have other severe disabilities.

DATES: Date deleted from the Procurement List: February 4, 2024.

ADDRESSES: Committee for Purchase From People Who Are Blind or Severely Disabled, 355 E Street SW, Suite 325, Washington, DC 20024.

FOR FURTHER INFORMATION CONTACT: Michael R. Jurkowski, Telephone: (703) 785-6404 or email CMTEFedReg@AbilityOne.gov.

SUPPLEMENTARY INFORMATION:

Deletions

On 12/1/2023, the Committee for Purchase From People Who Are Blind or Severely Disabled published notice of proposed deletions from the Procurement List. This notice is published pursuant to 41 U.S.C. 8503(a)(2) and 41 CFR 51-2.3.

After consideration of the relevant matter presented, the Committee has determined that the product(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) to the Government.

3. There are no known regulatory alternatives which would accomplish the objectives of the Javits-Wagner-O'Day Act (41 U.S.C. 8501-8506) in connection with the product(s) deleted from the Procurement List.

End of Certification

Accordingly, the following product(s) are deleted from the Procurement List:

Product(s)

NSN(s)—Product Name(s):

7520-01-682-7166—Pen, Ballpoint, Stick, Recycled Water Bottle, Blue, Fine Point

Designated Source of Supply: West Texas Lighthouse for the Blind, San Angelo, TX

Contracting Activity: GSA/FAS ADMIN SVCS ACQUISITION BR(2, NEW YORK, NY

NSN(s)—Product Name(s):

6840-01-367-2914—Detergent, Disinfectant, Water Soluble, .5 oz

Designated Source of Supply: Goodwill Vision Enterprises, Rochester, NY

Contracting Activity: GSA/FSS GREATER SOUTHWEST ACQUISITI, FORT WORTH, TX

NSN(s)—Product Name(s):

7530-00-NIB-0420—Jacket No. 605-913

Designated Source of Supply: CLOVERNOOK CENTER FOR THE BLIND AND VISUALLY IMPAIRED, Cincinnati, OH

Contracting Activity: Government Printing Office, Washington, DC

NSN(s)—Product Name(s):

1560-00-875-6001—Support, Structural

Designated Source of Supply: The Lighthouse for the Blind, Inc. (Seattle Lighthouse), Seattle, WA

Contracting Activity: DLA AVIATION, RICHMOND, VA

NSN(s)—Product Name(s):

6645-01-491-9838—Clock, Wall, Atomic, Mahogany Octagon, 12″ Diameter

6645-01-491-9839—Clock, Wall, Atomic, Mahogany Octagon, Custom Logo, 12″ Diameter

Designated Source of Supply: Chicago Lighthouse Industries, Chicago, IL

Contracting Activity: GSA/FAS ADMIN SVCS ACQUISITION BR(2, NEW YORK, NY

NSN(s)—Product Name(s):

3990-00-NSH-0081—Sideboard Pallet, 48″ x 48″

Designated Source of Supply: Knox County Association for Remarkable Citizens, Inc., Vincennes, IN

Contracting Activity: W39Z STK REC ACCT-CRANE AAP, CRANE, IN

NSN(s)—Product Name(s):

8970-00-NSH-0026—Meal Kit, Turkey, Detainees, DHS ICE

8970-00-NSH-0027—Meal Kit, Roast Beef, Detainees, DHS ICE

Designated Source of Supply: The Arc of Cumberland and Perry Counties, Carlisle, PA

Contracting Activity: COMPLIANCE&REMOVALS, WASHINGTON, DC

Michael R. Jurkowski,
Acting Director, Business Operations.

[FR Doc. 2024-00023 Filed 1-4-24; 8:45 am]

BILLING CODE 6353-01-P